DEPARTMENT OF DEFENSE

Department of the Air Force

Notice of Members of the 2021 Performance Review Board

AGENCY: Department of the Air Force, Department of Defense.

ACTION: Notice.

SUMMARY: Notice is given of the names of members of the 2021 Performance Review Board for the Department of the Air Force effective December 6, 2021.

FOR FURTHER INFORMATION CONTACT: Please direct any written comments or requests for information to Ms. Rosario Caruth, Air Force Civilian Senior Executive Management Office, AF/A1LS, 1040 Air Force Pentagon, Washington, DC 20330-1040, (PH: 703-693-6447; or via email at rosario.caruth@us.af.mil).

SUPPLEMENTARY INFORMATION: Pursuant to 5 U.S.C. 4314(c) (1-5), the Department of the Air Force announces the appointment of the following members to its 2021 Senior Executive Service Performance Review Board:

1. Hon. Gina Ortiz Jones (Advisor), Under Secretary of the Air Force

2. Gen David Allvin (Co-Chair), Vice Chief of Staff of the Air Force

3. Gen David Thompson, Vice Chief of Space Operations for U.S. Space Force

4. Mr. John Fedrigo (Co-Chair), Principal Deputy Assistant Secretary of the Air Force for Manpower and Reserve Affairs

5. Mr. Steven Herrera, Principal Deputy Assistant Secretary of the Air Force for Financial Management and Comptroller

6. Lt Gen Nina Armagno, Director of Staff for U.S. Space Force

7. RADM Trey Wheeler, Chief of Staff for U.S. Strategic Command

8. Mr. Anthony Reardon, Administrative Assistant to the Secretary of the Air Force

9. Ms. Gwendolyn DeFilippi, Assistant Deputy Chief of Staff for Manpower, Personnel and Services

10. Ms. Patricia Young, Air Force Materiel Command Executive Director

11. Ms. Darlene Costello, Principal Deputy Assistant Secretary of the Air Force Acquisition, Technology & Logistics

12. Mr. Craig Smith, Principal Deputy General Counsel of the Air Force

13. Ms. Patricia Mulcahy, Deputy Chief of Space Operations for Personnel and Logistics Services, U.S. Space Force

14. Ms. Shannon McGuire (Legal Advisor), Deputy General Counsel for Fiscal Ethics and Administrative Law

15. Mr. Richard Desmond (Legal Advisor), Associate General Counsel of the Air Force

The following Tier 3 Career SES members will serve as alternates:

1. Mr. Douglas Bennett, Auditor General of the Air Force

2. Mr. Richard Lombardi, Deputy Chief Management Officer

3. Ms. Kelli Seybolt, Deputy Under Secretary of the Air Force, International Affairs

4. Mr. Randall Walden, Director and Program Executive Officer for the Air Force Rapid Capabilities Office

5. Mr. Daniel Fri, Assistant Deputy Chief of Staff, Logistics, Engineering and Force Support

6. Mr. Douglas Sanders, Deputy Administrative Assistant to the Secretary of the Air Force

7. Mr. Michael Shoults, Assistant Deputy Chief of Staff, Strategy Integration and Requirements

8. Ms. Jennifer Miller, Principal Deputy Assistant Secretary of the Air Force for Installations, Environment and Energy

9. Ms. Lauren Knausenberger, Deputy Chief Information Officer

10. Mr. John Salvatori, Director, Concepts, Development, and Management Office or Director, Capabilities Management Office

11. Mr. Joseph McDade, Assistant Deputy Chief of Staff for Strategic Plans and Programs

12. Mr. James Brooks, Assistant Deputy Chief of Staff for Strategic Deterrence and Nuclear Integration

13. Mr. Rowayne Schatz, Jr., Director, Air Force Studies and Analyses, Assessments and Lessons Learned

14. Ms. Lisa Costa, Deputy Chief of Space Operations for Technology and Innovation

15. Ms. Wanda JonesHeath, Principal Cyber Advisor

Adriane Paris,
Acting Air Force Federal Register Liaison Officer.

[FR Doc. 2021-23528 Filed 10-28-21; 8:45 am]

BILLING CODE 5001-10-P